ENVIRONMENTAL PROTECTION AGENCY

[EPA-HQ-OAR-2015-0341; FRL-12182-01-OAR]

Notice of Availability of One Updated Chapter in the Environmental Protection Agency's Air Pollution Control Cost Manual—Fabric Filters

AGENCY: Environmental Protection Agency (EPA).

ACTION: Notice of availability and public comment period.

SUMMARY: The Environmental Protection Agency (EPA) is providing notice that one chapter of the current EPA Air Pollution Control Cost Manual (Control Cost Manual) has been updated. The EPA is requesting comment on: Chapter 1, Section 6, “Fabric Filters.” This Control Cost Manual chapter covers control measures for particulate matter (PM), including fine particulate (PM2.5) emissions.

DATES: Comments must be received on or before November 19, 2024. Please refer to SUPPLEMENTARY INFORMATION for additional information on submitting comments on the provided data.

ADDRESSES: You may send comments, identified by Docket ID No. EPA-HQ-OAR-2015-0341, by any of the following methods:

• Federal eRulemaking Portal: http://www.regulations.gov/ (our preferred method). Follow the online instructions for submitting comments.

• Mail: U.S. Environmental Protection Agency, EPA Docket Center, Docket No. EPA-HQ-OAR-2015-0341, Office of Air and Radiation Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this action. Comments received may be posted without change to https://www.regulations.gov/, including any personal information provided. For detailed instructions on sending comments and additional information on the rulemaking process, see the “Public Participation” heading of the SUPPLEMENTARY INFORMATION section of this document.

FOR FURTHER INFORMATION CONTACT: Larry Sorrels, Health and Environmental Impacts Division, Office of Air Quality Planning and Standards, Environmental Protection Agency, C439-02, 109 T.W. Alexander Drive, Research Triangle Park, NC 27709; telephone number: (919) 541-5041; email address: sorrels.larry@epa.gov.

SUPPLEMENTARY INFORMATION: The EPA is requesting comment on the specific Control Cost Manual chapter included in this notice.

Written Comments: Submit your comments, identified by Docket ID No. EPA-HQ-OAR-2015-0341, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

I. General Information

A. What should I consider as I prepare my comments for the EPA?

1. Submitting CBI. Do not submit this information to the EPA through www.regulations.gov or email. Clearly mark the part or all of the information that you claim to be CBI. For CBI information in a disk or CD-ROM that you mail to the EPA docket office, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulation (CFR) part 2.

2. Tips for Preparing your Comments. When submitting comments, remember to: Identify the notification by docket number and other identifying information (subject heading, Federal Register date and page number).

• Follow directions—The agency may ask you to respond to specific questions or organize comments by referencing a CFR part or section number.

• Explain why you agree or disagree; suggest alternatives and substitute language/data for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Information Available for Public Comment

The EPA is requesting comment on one updated chapter of the EPA Air Pollution Control Cost Manual. The Control Cost Manual contains individual chapters on control measures, including data and equations to aid users in estimating capital costs for installation and annual costs for operation and maintenance of these measures, and data concerning the percentage of pollutant emissions that control measures can reduce. The Control Cost Manual is used by the EPA for estimating the impacts of rulemakings and serves as a basis for sources to estimate costs of controls that are Best Available Control Technology (BACT) under the New Source Review Program, the Regional Haze Program, Reasonably Achievable Control Technology (RACT) for State Implementation Plans (SIPs) and for other programs.

The one updated Control Cost Manual chapter is: Chapter 1, Section 6, “Fabric Filters.” This revised Control Cost Manual chapter can be found in the docket for the Control Cost Manual update (Docket ID No. EPA-HQ-OAR-2015-0341). The current Control Cost Manual version (sixth edition) including the current fabric filters chapter is available at http://epa.gov/ttn/catc/products.html#cccinfo, and last updated in 2003.

The Consolidated Appropriations Act of 2014 requested that the EPA begin development of a seventh edition of the Control Cost Manual. The EPA has met with state, local, and Tribal officials to discuss plans for the Control Cost Manual update as called for under the Consolidated Appropriations Act of 2014. The EPA has met with other groups as well at their request. The EPA has updated the selective non-catalytic reduction (SNCR) and selective catalytic reduction (SCR) chapters, the first two chapters (Chapter 1, Section 4; Chapter 2, Section 4, respectively) completed for the seventh edition of the Control Cost Manual and made them available to the public in May 2016 (81 FR 38702, June 14, 2016) and also updated these chapters again in May 2019. In addition, the EPA has updated the Refrigerated Condensers (Chapter 1, Section 3 and Section 3.1) and Incinerators (Chapter 2, Section 3, Section 3.2, now Incinerators/Oxidizers) chapters in November 2017, the Cost Estimation: Concepts and Methodology chapter (Chapter 2, Section 1) as of November 2017, the Carbon Adsorbers (Chapter 1, Section 3, Section 3.1) and Flares (Chapter 1, Section 3, Section 3.2) chapters in October 2018, and the Gas Absorbers (now (Wet and Dry Scrubbers for Acid Gas, Chapter 1, Section 5) chapter in May 2021.

To help focus review of the Fabric Filters chapter, we offer the following list of questions that the EPA is particularly interested in addressing in the updated chapter. Regardless of the topics that are covered in this list of questions, commenters are welcome to address any aspects of this chapter. Please provide supporting data for responses to these questions and for other comments on the chapter.

For the Fabric Filters chapter:

(1) What is a reasonable and up-to-date estimate of equipment life (defined as design or operational life) for fabric filters—that is, an entire fabric filter system, not just the filter bags or cages? Please provide data, if possible, on accurate estimates of equipment life.

(2) Are the descriptions of and technical background on fabric filters complete, up to date, and accurate with regard to control of PM (including PM2.5)? Please provide information, if possible, on descriptions of and background on control of PM by fabric filters if you do not believe that the descriptions in the draft chapter are complete, up to date, and accurate.

(3) Is the applicability of fabric filters to various types of emissions sources complete, up to date, and accurate?

(4) Are the estimates of PM (including PM2.5) removal or control efficiency for fabric filters accurate and up-to-date? If not, what are more accurate estimates? Please provide data, if possible, to address inaccuracies.

(5) Is the information accurate on how fabric filters operate in tandem with control technologies such as dry sorbent injection (DSI) to reduce sulfur dioxide and activated carbon injection (ACI) to reduce mercury? Please provide data, if possible, to address inaccuracies.

(6) Are the capital cost correlations, factors, and equations for fabric filters applied to various types of emissions sources and industries accurate and up to date? Are the annual costs (such as operating and maintenance costs) for fabric filters applied to various types of emissions sources and industries accurate and up-to-date? If not, how should they be revised? Please provide data, if possible, to address inaccuracies.

(7) This revised Control Cost Manual chapter lists test methods used to measure the performance of fabric media. Is the list of test methods accurate and up-to-date?

Erika N. Sasser,
Director, Health and Environmental Impacts Division.

[FR Doc. 2024-18721 Filed 8-20-24; 8:45 am]

BILLING CODE 6560-50-P